DEPARTMENT OF DEFENSE

Office of the Secretary

32 CFR Part 153

[0790-AH73]

Criminal Jurisdiction Over Civilians Employed by or Accompanying the Armed Forces Outside the United States, Service Members, and Former Service Members

AGENCY: Department of Defense.

ACTION: Proposed rule; withdrawal.

SUMMARY: On December 22, 2005, The Department of Defense published another proposed rule in error. The rule should have been published as a final rule. This document withdraws that rule.

DATES: Effective Date: The proposed rule published at 70 FR 75998 is withdrawn, effective December 22, 2005.

FOR FURTHER INFORMATION CONTACT: L.M. Bynum, 703-696-4970.

SUPPLEMENTARY INFORMATION: The proposed rule for public comments was previously published on February 2, 2004 (69 FR 4890). Comments received were considered.

List of Subjects in 32 CFR Part 153

Courts, Intergovernmental relations, Military personnel.

Dated: January 13, 2006.
L.M. Bynum,
Alternate OSD Federal Register Liaison Officer, DoD.

[FR Doc. 06-527 Filed 1-19-06; 8:45 am]

BILLING CODE 5001-06-M